DEPARTMENT OF COMMERCE

National Oceanic and Atmospheric Administration

50 CFR Part 679

[Docket No. 080302360-7686-03]

RIN 0648-AT91

Pacific Halibut Fisheries; Bering Sea and Aleutian Islands King and Tanner Crab Fisheries; Groundfish Fisheries of the Exclusive Economic Zone Off Alaska; Individual Fishing Quota Program; Western Alaska Community Development Quota Program; Recordkeeping and Reporting; Permits; Correction

AGENCY: National Marine Fisheries Service (NMFS), National Oceanic and Atmospheric Administration (NOAA), Commerce.

ACTION: Final rule, correction.

SUMMARY: This action corrects the regulatory text of a final rule published on December 15, 2008 (73 FR 76136). Among its measures, the final rule will implement new recordkeeping and reporting requirements; a new electronic groundfish catch reporting system, the Interagency Electronic Reporting System, and its data entry component, eLandings. This action is intended to promote the goals and objectives of the Magnuson-Stevens Fishery Conservation and Management Act (Magnuson-Stevens Act) and other applicable law.

DATES: Effective January 14, 2009.

FOR FURTHER INFORMATION CONTACT: Patsy A. Bearden, 907-586-7228.

SUPPLEMENTARY INFORMATION:

Background

NMFS manages the U.S. groundfish fisheries of the exclusive economic zone off Alaska under the Fishery Management Plan for Groundfish of the Gulf of Alaska and the Fishery Management Plan for Groundfish of the Bering Sea and Aleutian Islands Management Area (collectively, FMPs). General provisions governing fishing by U.S. vessels in accordance with the FMPs appear at subpart H of 50 CFR part 600.

Need for Corrections

In FR Doc. E8-29625, published in the Federal Register on December 15, 2008 (73 FR 76136), the following errors occur in §§ 679.4 and 679.5. This document corrects those errors.

NMFS is correcting the heading for the table in § 679.4(a)(1) by removing the phrase “If program permit or card type is:” and replacing it with “If program permit type is:”. This correction is necessary because, as described in the supplemental proposed rule, NMFS no longer issues permit cards.

Section 679.4(e)(2) was revised in the final rule, but NMFS inadvertently deleted the phrase “legible copy of” a permit and replaced it with “copy of” a permit. In a final rule published May 19, 2008 (73 FR 28733), NMFS no longer required an original permit onboard a vessel or onsite at a shoreside facility, but required a “legible copy” of a permit. However, NMFS inadvertently omitted the word “legible” in the supplemental proposed rule.

Section 679.5(c)(1)(vi)(B)(3) is an in-text table and describes the distribution of the yellow logsheet of the daily cumulative production logbooks (DCPLs). This correction removes check marks from the columns for catcher/processor longline or pot gear, catcher/processor trawl gear, and motherships that were mistakenly included in the supplemental proposed rule and the final rule. With the advent of eLandings, the quarterly submittal of the yellow logsheets is no longer required and NMFS did not intend to require these processors to submit the logsheet. By removing the checkmarks, this correction shows that these processors are not required to submit the yellow logsheets to NMFS, because these processors use eLandings to report production and discard/disposition data.

Check-in and check-out requirements for catcher/processors, motherships, shoreside processors, and stationary floating processors are in regulations at § 679.5(h). Among other regulatory actions, the supplemental proposed and final rules reformatted check-in and check-out requirements from text to table format. The regulatory text for both check-in and check-out reports was combined. Paragraph (h)(4) describes requirements for both the check-in and check-out reports. Paragraph (h)(5) describes information that must be submitted in both the check-in and check-out reports. Paragraph (h)(5)(xiv) states to indicate either YES or NO if the report is a check-out report. NMFS unintentionally failed to include in the supplemental proposed and final rules a follow-up question to any “YES” response in paragraph (h)(5)(xiv) to record the date the facility ceased to receive or process groundfish. NMFS is correcting these unintended errors by adding a new paragraph (h)(5)(xv) to read “if YES, record the date the facility ceased to receive or process groundfish” and by placing requirements to record fish and fish products into a separate paragraph (h)(5)(xvi) to read “Indicate product weight of all fish or fish products (including non-groundfish) remaining at the facility (other than public cold storage) by species code and product code. Indicate if recorded to the nearest pound or to the nearest 0.001 mt.”

Classification

Pursuant to 5 U.S.C. 553(b)(B), the Assistant Administrator of Fisheries finds good cause to waive prior notice and opportunity for public comment otherwise required by the section. NOAA finds that prior notice and opportunity for public comment are unnecessary because the changes made by this rule are non-substantive. It was not the intention under the final rule to replace language NMFS intended to retain or to impose requirements that are incorrect. The need to immediately correct published in-text tables for this regulation eliminates potential confusion and constitutes good cause to waive the requirement to provide prior notice and opportunity for public comment, as such procedures would be unnecessary and contrary to the public interest.

The rule does not make any substantive change in the rights and obligations of fishermen managed under the groundfish regulations that NMFS intended to impose in the final rule. No aspect of this action is controversial and no change in operating practices in the fishery is required.

Because prior notice and opportunity for public comment are not required for this rule by 5 U.S.C. 553, or any other law, the analytical requirements of the Regulatory Flexibility Act, 5 U.S.C. 601 et seq., do not apply.

Because this action only makes non-substantive changes to part 679 described above, this rule is not subject to the 30-day delay in effective date requirement of 5 U.S.C. 553(d).

Corrections

Accordingly, the final rule, FR Doc. E8-29625, published on December 15, 2008, at 73 FR 76136, to be effective January 14, 2009, is corrected as follows:

1a. On page 76143, in paragraph (a)(1), correct the entry for the table heading to read as follows:

§ 679.4 Permits.

If program permit type is: | Permit is in effect from issue date through the end of: | For more information, see . . .
* * * * * * *

* * * * *

§ 679.4 [Corrected]

1b. On page 76144, in the third column, paragraph (e)(2), correct the phrase “copy of” in the fourth line to read “legible copy of”.

2a. On page 76147, paragraph (c)(1)(vi)(B)(3) is corrected to read as follows:

§ 679.5 Recordkeeping and reporting (R&R).

* * * * *

(c) * * *

(1) * * *

(vi) * * *

(B) * * *

Logsheet Distribution and Submittal
If logsheet color is . . . | Logsheet found in these logbooks: CV lgl | Logsheet found in these logbooks: CV trw | Logsheet found in these logbooks: CP lgl | Logsheet found in these logbooks: CP trw | Logsheet found in these logbooks: MS | Submit to . . . | Time limit
* * * * * * *
(3) Yellow | X | X |  |  |  | Must submit quarterly to: NOAA Fisheries Office for Law Enforcement Alaska Region Logbook Program, P.O. Box 21767, Juneau, AK 99802-1767 Telephone: 907-586-7225 | On the following schedule: 1st quarter by May 1 of that fishing year. 2nd quarter by August 1 of that fishing year. 3rd quarter by November 1 of that fishing year. 4th quarter by February 1 of the following fishing year.
* * * * * * *

* * * * *

2b. On page 76164, paragraphs (h)(5)(xv) is corrected and paragraph (h)(5)(xvi) is added to read as follows:

§ 679.5 Recordkeeping and reporting (R&R).

* * * * *

(h) * * *

(5) * * *

Required information | Check-in report: MS | Check-in report: C/P | Check-in report: SS, SFP | Check-out report: MS | Check-out report: C/P | Check-out report: SS, SFP
* * * * * * *
(xv) If YES, enter date facility ceased to receive or process groundfish |  |  |  |  |  | X
(xvi) Indicate product weight of all fish or fish products (including non groundfish) remaining at the facility (other than public cold storage) by species code and product code. Indicate if recorded to the nearest pound or to the nearest 0.001 mt. |  |  | X |  |  | X

* * * * *

Dated: January 8, 2009.
Samuel D. Rauch III,
Deputy Assistant Administrator, for Regulatory Programs, National Marine Fisheries Service.

[FR Doc. E9-489 Filed 1-12-09; 8:45 am]

BILLING CODE 3510-22-P